ENVIRONMENTAL PROTECTION AGENCY

40 CFR Part 70

[DC-T5-2003-01b; FRL-7483-7]

Clean Air Act Approval of Operating Permits Program Revision; District of Columbia

AGENCY: Environmental Protection Agency (EPA).

ACTION: Proposed rule.

SUMMARY: EPA proposes to maintain full approval of the title V operating permit program of the District of Columbia. In a notice of deficiency (NOD) published in the Federal Register on December 21, 2001 (66 FR 65947), EPA notified the District of Columbia of EPA's finding that the District's provisions for providing public notification of permitting actions did not fully comply with the requirements of the Clean Air Act (CAA) and its implementing regulations. On April 4, 2003, the District of Columbia submitted revisions to the public notification requirements of the operating permit program. The program revision adequately resolves the deficiency identified in the NOD and the District of Columbia maintains final full approval of the Clean Air Act title V operating permit program and this action proposes to approve the amendment. In the Final Rules section of this Federal Register, EPA is approving the District's operating permit program as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. The EPA will not institute a second comment period. Any parties interested in commenting on this action should do so at this time.

DATES: Comments must be received in writing by May 16, 2003.

ADDRESSES: Written comments should be mailed to Kristeen Gaffney, Acting Chief, Permits and Technical Assessment Branch, Mailcode 3AP11, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103 and District of Columbia Department of Public Health, Air Quality Division, 51 N Street, NE., Washington, DC 20002.

FOR FURTHER INFORMATION CONTACT: Paresh R. Pandya, (215) 814-2167, or by e-mail at pandya.perry@epa.gov.

SUPPLEMENTARY INFORMATION: For further information, please see the information provided in the direct final action, with the same title, that is located in the “Rules and Regulations” section of this Federal Register publication.

Dated: April 9, 2003.
James W. Newsom,
Acting Regional Administrator, Region III.

[FR Doc. 03-9344 Filed 4-15-03; 8:45 am]

BILLING CODE 6560-50-P